ENVIRONMENTAL PROTECTION AGENCY

[EPA-R05-OAR-2008-0682; FRL-9106-4]

Adequacy Status of the Steubenville, OH and the Canton, OH Submitted Annual Fine Particulate Matter Attainment Demonstration for Transportation Conformity Purposes

AGENCY: Environmental Protection Agency (EPA).

ACTION: Notice of adequacy.

SUMMARY: In this notice, EPA is notifying the public that we have found that the motor vehicle emissions budgets (MVEBs) for fine particulate matter (PM2.5) and oxides of nitrogen (NOx) as a precursor to fine particulate matter in Steubenville, Ohio (Jefferson County) and Canton, Ohio (Stark County) are adequate for use in transportation conformity determinations. Ohio submitted the Steubenville and Canton area budgets with the attainment demonstration submittal initially on July 16, 2008, and subsequently submitted the public hearing results on December 5, 2008. As a result of our finding, the Steubenville, Ohio area (Jefferson County) and the Canton, Ohio area (Stark County) must use the MVEBs from the submitted PM2.5 attainment demonstration plan for future transportation conformity determinations.

DATES: This finding is effective February 10, 2010.

FOR FURTHER INFORMATION CONTACT: Patricia Morris, Environmental Scientist, Criteria Pollutant Section (AR-18J), Air Programs Branch, Air and Radiation Division, United States Environmental Protection Agency, Region 5, 77 West Jackson Boulevard, Chicago, Illinois 60604, (312) 353-8656, morris.patricia@epa.gov.

SUPPLEMENTARY INFORMATION: Throughout this document, whenever “we”, “us” or “our” is used, we mean EPA.

Background

Today's notice is simply an announcement of a finding that we have already made. On December 7, 2009, EPA Region 5 sent a letter to the Ohio Environmental Protection Agency stating that the 2009 MVEBs for the Steubenville area, and also for the Canton area, which were submitted with the state's PM2.5 attainment demonstration, are adequate. Receipt of these MVEBs was announced on EPA's transportation conformity website, and no comments were submitted. The finding is available at EPA's conformity web site: http://www.epa.gov/otaq/stateresources/transconf/adequacy.htm.

The adequate 2009 MVEBs, in tons per year (tpy), for PM2.5 and NOX for the Steubenville area and the Canton area are as follows:

Steubenville (Jefferson County), Ohio
| PM2.5 (tpy) | NOX (tpy)
2009 | 19.80 | 1208.81

Canton (Stark County), Ohio
| PM2.5 (tpy) | NOX (tpy)
2009 | 88.38 | 5103.36

Transportation conformity is required by section 176(c) of the Clean Air Act. EPA's conformity rule requires that transportation plans, programs, and projects conform to state air quality implementation plans and establishes the criteria and procedures for determining whether or not they do conform. Conformity to a State Implementation Plan (SIP) means that transportation activities will not produce new air quality violations, worsen existing violations, or delay timely attainment of the national ambient air quality standards.

The criteria by which we determine whether a SIP's motor vehicle emission budgets are adequate for transportation conformity purposes are outlined in 40 CFR 93.118(e)(4). We have described our process for determining the adequacy of submitted SIP budgets in our July 1, 2004, preamble starting at 69 FR 40038, and we used the information in these resources while making our adequacy determination. Please note that an adequacy review is separate from EPA's completeness review, and it also should not be used to prejudge EPA's ultimate approval of the SIP. Even if we find a budget adequate, the SIP could later be disapproved.

The finding and the response to comments are available at EPA's transportation conformity web site: http://www.epa.gov/otaq/stateresources/transconf/adequacy.htm.

Authority: 42 U.S.C. 7401-7671 q.

Dated: January 13, 2010.
Walter W. Kovalick Jr.,
Acting Regional Administrator, Region 5.

[FR Doc. 2010-1461 Filed 1-25-10; 8:45 am]

BILLING CODE 6560-50-P